ENVIRONMENTAL PROTECTION AGENCY

[EPA-HQ-OW-2008-0747; FRL-9156-6]

RIN 2040-AE90

National Primary Drinking Water Regulations; Announcement of the Results of EPA's Review of Existing Drinking Water Standards and Request for Public Comment and/or Information on Related Issues; Extension of the Comment Period

AGENCY: Environmental Protection Agency (EPA).

ACTION: Extension of public comment period.

SUMMARY: The Environmental Protection Agency (EPA) is extending by 30 days the public comment period for the National Primary Drinking Water Regulations; Announcement of the Results of EPA's Review of Existing Drinking Water Standards and Request for Public Comment and/or Information on Related Issues, which was published in the Federal Register on March 29, 2010. The purpose of that notice was to invite commenters to submit any new, relevant peer-reviewed data or information pertaining to the four NPDWRs identified in that action as candidates for revision (i.e. acrylamide, epichlorohydrin, tetrechloroethylene and trichloroethylene). This information will inform EPA's evaluation as the Agency moves forward with the regulatory revisions for these four NPDWRs. This extended comment period will afford greater opportunity to all interested parties to review and submit comments on the notice.

DATES: Comments must be received on or before July 1, 2010.

ADDRESSES: Submit your comments, identified by Docket ID No. EPA-HQ-OW-2008-0747, by one of the following methods:

• http://www.regulations.gov: Follow the on-line instructions for submitting comments.

• Mail: Water Docket, Environmental Protection Agency, Mailcode: 2822T, 1200 Pennsylvania Ave., NW., Washington, DC 20460.

• Hand Delivery: Water Docket, EPA Docket Center (EPA/DC) EPA West, Room 3334, 1301 Constitution Ave., NW., Washington, DC. Such deliveries are only accepted during the Docket's normal hours of operation, and special arrangements should be made for deliveries of boxed information.

Instructions: Direct your comments to Docket ID No. EPA-HQ-OW-2008-0747. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Karen Wirth, Office of Ground Water and Drinking Water, Standards and Risk Management Division, at (202) 564-5246 or e-mail wirth.karen@epa.gov. For general information contact the EPA Safe Drinking Water Hotline at (800) 426-4791 or e-mail: hotline-sdwa@epa.gov.

SUPPLEMENTARY INFORMATION: The comment period for the Announcement of the Results of EPA's Review of Existing Drinking Water Standards and Request for Public Comment and/or Information on Related Issues (Six-Year Review 2) now ends July 1, 2010. This is an extension of 30 days beyond the comment period established in the Federal Register on March 29, 2010. Anyone seeking to submit comments must follow the procedures specified in section I.C of the announcement as published in the Federal Register (75 FR 15500, March 29, 2010).

The Safe Drinking Water Act (SDWA) requires the United States Environmental Protection Agency (EPA) to conduct a periodic review of existing National Primary Drinking Water Regulations (NPDWRs) and determine which, if any, need to be revised. The purpose of the review, called the Six-Year Review, is to identify those NPDWRs for which current health effects assessments, changes in technology, and/or other factors provide a health or technical basis to support a regulatory revision that will improve or strengthen public health protection. EPA has completed its detailed review of 71 NPDWRs and at this time believes that four NPDWRs are candidates for regulatory revision. These four NPDWRs are acrylamide, epichlorohydrin, tetrachloroethylene, and trichloroethylene. EPA requests public comment and/or relevant information that will assist the Agency as we move forward with regulatory action to revise these four NPDWRs. In addition to the 71 NPDWRs discussed in detail in today's action, this review also includes 14 other NPDWRs that need no detailed review because of recent or ongoing revision actions. See the results as published in Federal Register (75 FR 15500, March 29, 2010).

Dated: May 24, 2010.
Cynthia C. Dougherty,
Director, Office of Ground Water and Drinking Water.

[FR Doc. 2010-12915 Filed 5-28-10; 8:45 am]

BILLING CODE 6560-50-P